DEPARTMENT OF JUSTICE

Antitrust Division

Notice Pursuant to the National Cooperative Reserach and Production Act of 1993—International Air Transport Association

Notice is hereby given that, on September 20, 2004, pursuant to section 6(a) of the National Cooperative Research and Production Act of 1993, 15 U.S.C. 4301 et seq. (“the Act”), International Air Transport Association (“IATA”) has filed written notifications simultaneously with the Attorney General and the Federal Trade Commission disclosing (1) the name and principal place of business of the standards development organization and (2) the nature and scope of its standards development activities. The notifications were filed for the purpose of invoking the Act's provisions limiting the recovery of antitrust plaintiffs to actual damages under specified circumstances.

Pursuant to section 6(b) of the Act, the name and principal place of business of the standards development organization is: International Air Transport Association, Montreal, Quebec, CANADA. The nature and scope of IATA's standards development activities are: To develop, promulgate and publish voluntary consensus standards for international air transportation services provided by airlines and their agents and representatives to passengers, shippers and postal authorities. The IATA standards establish common practices and procedures, documentation and communication formats for the processing and handling of passengers, cargo and mail in the complex international air transportation environment. IATA's voluntary consensus standards are developed by IATA member airlines in consultation with other interested parties, including governments and intergovernmental organizations, whose expertise is sought as part of the standards development process.

Additional information concerning IATA can be obtained from Constance O'Keefe, Acting General Counsel of IATA, at (514) 874-0202.

Dorothy B. Fountain,
Deputy Director of Operations, Antitrust Division.

[FR Doc. 04-25080 Filed 11-9-04; 8:45 am]

BILLING CODE 4410-11-M